DEPARTMENT OF HEALTH AND HUMAN SERVICES

Meeting of the Advisory Committee on Minority Health

AGENCY: Office of Minority Health, Office of the Secretary, U.S. Department of Health and Human Services.

ACTION: Notice of meeting.

SUMMARY: As stipulated by the Federal Advisory Committee Act, the U.S. Department of Health and Human Services (HHS) is hereby giving notice that the Advisory Committee on Minority Health (ACMH) will hold a meeting. This meeting will be open to the public. Preregistration is required for the public to attend the meeting, provide comments, and/or distribute printed material(s) to ACMH members. Information about the meeting is available from the designated contact person and will be posted on the HHS Office of Minority Health (OMH) website: www.minorityhealth.hhs.gov. Information about ACMH activities can be found on the OMH website under the heading About OMH, Committees and Working Groups.

DATES: The ACMH meeting will be held on November 14-15, 2024 from 8:30 a.m. to 5:30 p.m. EST each day. If the Committee completes its work before 5:30 p.m., the meeting will adjourn early.

ADDRESSES: The meeting will be held at the Tower Building at 1101 Wootton Parkway, Lower-Level Conference Room, Rockville, Maryland 20852 and will be accessible by webcast. Members of the public must register for the meeting by 5:00 p.m. EST on October 29, 2024. Registered webcast participants will receive webcast access information prior to the meeting.

FOR FURTHER INFORMATION CONTACT: Violet Woo, Designated Federal Officer, Advisory Committee on Minority Health, OMH, HHS, Tower Building, 1101 Wootton Parkway, Suite 100, Rockville, Maryland 20852. Phone: 240-453-6816; email: OMH-ACMH@hhs.gov.

SUPPLEMENTARY INFORMATION: Establishment of the ACMH is mandated under section 1707(c) of the PHS Act (42 U.S.C 300u-6(c) to provide advice to the Deputy Assistant Secretary for Minority Health on the development of goals and program activities related to OMH's duties.

The topic to be discussed during the meeting is the implementation of the updated Office of Management and Budget (OMB) federal race and ethnicity data collection standards. The focus will be opportunities for engagement with racial, ethnic, and tribal community-level organizations to support increased awareness of the race and ethnicity data collection standards and their intended goals within their communities. The recommendations will be given to the Deputy Assistant Secretary for Minority Health to inform efforts related to implementation of the revised OMB standards. Information on OMB's updated federal race and ethnicity data collection standards can be found on this website: spd15revision.gov.

The meeting is open to the public. Any individual who wishes to attend the meeting must register by sending an email to OMH-ACMH@hhs.gov by 5:00 p.m. EST on October 29, 2024. Each registrant should provide their name, affiliation, email address, days attending, if planning to provide public verbal comments or printed statement, and if participation is in-person or via webcast. Registrants will receive webcast access information via email. Individuals who plan to attend and need special assistance, such as sign language interpretation or other reasonable accommodations, should contact OMH-ACMH@hhs.gov and reference this meeting. Requests for special accommodation should be made during registration or at least ten (10) business days prior to the meeting.

Registered members of the public will have an opportunity to provide comments at the meeting. Public comments will be limited to two minutes per registered speaker during the time allotted. Individuals of the public may also submit and distribute electronic or printed statements or material(s) related to this meeting's topic. Written statements or material(s) should be double-spaced with one-inch margins and not exceed two pages in length. Any content beyond the two-page limit will not be presented to the Committee. Individuals planning to submit electronic or printed material should email the material to OMH-ACMH@hhs.gov at least ten (10) business days prior to the meeting.

Violet Woo,
Designated Federal Officer, Advisory Committee on Minority Health.

[FR Doc. 2024-23582 Filed 10-10-24; 8:45 am]

BILLING CODE 4150-29-P